SURFACE TRANSPORTATION BOARD

[Docket No. FD 36607]

Hamilton Northwestern Railroad Co.—Acquisition and Operation Exemption—in Allegan County, Mich.

Hamilton Northwestern Railroad Co. (HNW), a noncarrier, has filed a verified notice of exemption pursuant to 49 CFR 1150.31 to acquire and operate approximately 6.10 miles of track in Allegan County, Mich., extending from a point of connection with a line of CSX Transportation, Inc. (CSXT), at milepost 19.00 in Holland, Mich., to milepost 12.90 in Hamilton, Mich. (the Line).¹

¹ HNW filed its verified notice of exemption on April 6, 2022, seeking operating authority over the Line. On April 22, 2022, HNW filed a supplement clarifying that it seeks to acquire the Line as a line of railroad as well as operate over it. In light of the supplement, April 22, 2022, is deemed the filing date of the verified notice.

This transaction is related to a concurrently filed verified notice of exemption in Hamilton Hartford Group, LLC—Continuance in Control Exemption—Hamilton Northwestern Railroad, Docket No. FD 36608, in which Hamilton Hartford Group, LLC, seeks to continue in control of HNW upon HNW's becoming a Class III rail carrier.

According to the verified notice, the Line was once a part of CSXT's network of rail lines in Western Michigan but was abandoned in 2003. See CSXT Consummation Notice, Jul. 7, 2003, CSX Transp., Inc.—Aban. Exemption—in Allegan Cnty., Mich., AB 55 (Sub-No. 619X). HNW states that, after abandonment, the Line was sold several times as private industry track and was ultimately acquired by its current owner, Endeavor Ag and Energy, LLP (Endeavor), a noncarrier. HNW, therefore, states that the proposed transfer of the Line would not involve a Board-regulated railroad line. However, HNW states that it has a signed agreement to purchase the Line, that it intends to reestablish common carrier service over the Line, and that the Line would once again become a regulated line of railroad upon the latter of the effective date of this exemption or upon the closing of HNW's purchase of the Line.

According to HNW, it will not be subject to any limitations on its ability to interchange on the Line with a third-party connecting carrier. HNW certifies that its projected annual revenue will not exceed $5 million and that the proposed transaction will not result in HNW's becoming a Class I or II rail carrier.

HNW has also filed a petition for waiver of 49 CFR 1150.32(b), which states that a notice of exemption will be effective 30 days after the notice is filed. HNW asks the Board to waive that provision and allow this notice to become effective by May 6, 2022, so that HNW can assume operations and minimize the risk of a disruption of rail service on the Line. HNW's request will be addressed in a separate decision, in which the Board will establish the effective date of the exemption.

If the verified notice contains false or misleading information, the exemption is void ab initio. Petitions to revoke the exemption under 49 U.S.C. 10502(d) may be filed at any time. The filing of a petition to revoke will not automatically stay the effectiveness of the exemption. Petitions for stay must be filed no later than May 13, 2022 (at least seven days before the exemption becomes effective).

All pleadings, referring to Docket No. FD 36607, must be filed with the Surface Transportation Board either via e-filing on the Board's website or in writing addressed to 395 E Street SW, Washington, DC 20423-0001. In addition, a copy of each pleading must be served on HNW's representative, Robert A. Wimbish, Fletcher & Sippel LLC, 29 North Wacker Drive, Suite 800, Chicago, IL 60606-3208.

According to HNW, this action is categorically excluded from environmental review under 49 CFR 1105.6(c) and from historic preservation reporting requirements under 49 CFR 1105.8(b).

Board decisions and notices are available at www.stb.gov.

Decided: May 3, 2022.
By the Board, Valerie O. Quinn, Acting Director, Office of Proceedings.
Regena Smith-Bernard,
Clearance Clerk.

[FR Doc. 2022-09767 Filed 5-5-22; 8:45 am]

BILLING CODE 4915-01-P